DEPARTMENT OF TRANSPORTATION

Federal Aviation Administration

First Meeting: RTCA Special Committee 207/Airport Security Access Control Systems

AGENCY: Federal Aviation Administration (FAA), DOT.

ACTION: Notice of First Meeting.

SUMMARY: The FAA is issuing this notice to advise the public of a the initial meeting of RTCA Special Committee 207, Airport Security Access Control Systems. The FAA is holding this meeting to provide interested individuals an opportunity to participate.

Time and Date: The meeting will be held July 18, 2005 starting at 1 p.m.

ADDRESSES: The meeting will be held at RTCA, Inc.—Colson Board Room, 1828 L Street, NW., Suite 805, Washington, DC 20036.

FOR FURTHER INFORMATION CONTACT: (1) RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 207/Airport Security Access Control Systems meeting. RTCA is establishing Special Committee 207/Airport Security Access Control Systems at the request of the Airport Consultants' Council. SC-207 is tasked to revise RTCA DO-230A, Standards for Airport Security Access Control Systems issued in April 2003. A revision is required due to the rapid advancement of biometric applications and capabilities and other security procedures. The revised document is scheduled for completion by September 2006. The agency will include:

July 18:

• Opening Plenary Session (Welcome, Introductions, and Administrative Remarks)

• Agenda Overview

• RTCA Functional Overview

• Previous Committee History

• Current Committee Scope, Terms of Reference Overview.

• Presentation, Discussion, Recommendations

• Organization of Work, Assign Tasks and Workgroups

• Presentation, Discussion, Recommendations

• Assignment of Responsibilities

• Closing Plenary Session (Other Business, Establish Agenda for Next Meeting, Date and Place of Next Meeting).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on June 16, 2005.
Natalie Ogletree,
FAA General Engineer, RTCA Advisory Committee.

[FR Doc. 05-12532 Filed 6-23-05; 8:45 am]

BILLING CODE 4910-13-M